DEPARTMENT OF COMMERCE

National Oceanic and Atmospheric Administration

[I.D. 092705B]

Endangered and Threatened Species; Take of Anadromous Fish

AGENCY: National Marine Fisheries Service (NMFS), National Oceanic and Atmospheric Administration (NOAA), Commerce.

ACTION: \

SUMMARY: Notice is hereby given that the Oregon Department of Fish and Wildlife (ODFW) has submitted a Fishery Management and Evaluation Plan (FMEP) and the Washington Department of Fish and Wildlife (WDFW) has submitted an amendment to an FMEP pursuant to the protective regulations promulgated for Lower Columbia River (LCR) coho salmon under the Endangered Species Act. The FMEPs specify the future management of inland recreational fisheries potentially affecting LCR coho salmon. This document serves to notify the public of the availability of the FMEPs for review and comment before final approval or disapproval is made by NMFS.

DATES: Comments on the FMEPs must be received at the appropriate address or fax number (see ADDRESSES) no later than 5 p.m. Pacific daylight time on November 2, 2005.

ADDRESSES: Written comments on the application should be addressed to the Salmon Recovery Division, Hatcheries and Inland Fisheries Branch, 1201 NE Lloyd Blvd. Suite 1100, Portland, OR 97232 or faxed to 503-872-2737. Comments may be submitted by e-mail. The mailbox address for providing e-mail comments is LCRCohoFMEPs.nwr@noaa.gov. Include in the subject line of the e-mail comment the following identifier: Comments on LCR Coho FMEPs.

FOR FURTHER INFORMATION CONTACT: Richard Turner, Portland, Oregon, at phone number: (503) 736-4737, or e-mail: rich.turner@noaa.gov.

SUPPLEMENTARY INFORMATION:

Species Covered in This Notice

This notice is relevant to the Lower Columbia River coho salmon (Oncorhynchus kisutch), Lower Columbia River Chinook salmon (O. tshawytscha), Lower Columbia River steelhead (O. mykiss), and Columbia River chum salmon (O. keta) evolutionarily significant unit (ESU).

ODFW has submitted to NMFS an FMEP: Lower Columbia River Coho in Oregon Freshwater Fisheries of the Lower Columbia River Tributaries (between the Pacific Ocean and Hood River). WDFW has submitted an amendment to their Lower Columbia River FMEP for inland recreational fisheries potentially affecting listed adult and juvenile LCR coho salmon. These FMEPs include fisheries occurring in all tributaries to the Lower Columbia River from the Pacific Ocean to the Hood River in Oregon and the Big White Salmon River in Washington. The objective of the fisheries described in these FMEPs is to harvest known, hatchery-origin coho salmon, and other fish species in a manner that does not appreciably reduce the likelihood of survival and recovery of listed LCR salmon and steelhead ESUs. All fisheries included in these FMEPs will be managed such that only hatchery-origin coho salmon that are adipose fin-clipped may be retained. Impact levels on listed LCR coho salmon are specified in ODFW's FMEP and the amendment to WDFW's FMEP. Population viability analysis and risk assessments in the FMEPs indicate the extinction risk for listed coho salmon would not increase as a result of the proposed fisheries. A variety of monitoring and evaluation tasks are specified in the FMEPs to assess the abundance of coho salmon, determine fishery effort and catch of coho salmon and other species, and monitor angler compliance. A review of compliance with the provisions of the FMEPs will be conducted by the state fisheries agencies annually and a comprehensive review to evaluate the effectiveness of the FMEPs will occur at a minimum every 5 years.

As specified in the July 10, 2000, the Endangered Species Act (ESA) 4(d) rule for salmon and steelhead (65 FR 42422) and updated rule (June 28, 2005, 70 FR 37160), NMFS may approve an FMEP if it meets criteria set forth in 50 CFR 223.203(b)(4)(i)(A) through (I). Prior to final approval of an FMEP, NMFS must publish notification announcing its availability for public review and comment.

Authority

Under section 4 of the ESA, the Secretary of Commerce is required to adopt such regulations as he deems necessary and advisable for the conservation of species listed as threatened. The ESA salmon and steelhead 4(d) rule (65 FR 42422, July 10, 2000, as updated in 70 FR 37160, July 28, 2005) specifies categories of activities that contribute to the conservation of listed salmonids and sets out the criteria for such activities. The rule further provides that the prohibitions of paragraph (a) of the rule do not apply to activities associated with fishery harvest provided that an FMEP has been approved by NMFS to be in accordance with the salmon and steelhead 4(d) rule (65 FR 42422, July 10, 2000, as updated in 70 FR 37160, July 28, 2005).

Dated: September 29, 2005.
Angela Somma,
Chief, Endangered Species Division, Office of Protected Resources, National Marine Fisheries Service.

[FR Doc. 05-19724 Filed 9-30-05; 8:45 am]

BILLING CODE 3510-22-S